CONSUMER PRODUCT SAFETY COMMISSION

16 CFR 1460

Petition Requesting Safeguards for Glass Fronts of Gas Vented Fireplaces

AGENCY: U.S. Consumer Product Safety Commission.

ACTION: Notice.

SUMMARY: The U.S. Consumer Product Safety Commission (“Commission” or “we”) has received a petition (CP 11-1) requesting that the Commission initiate rulemaking to require safeguards for glass fronts of gas vented fireplaces. We invite written comments concerning the petition.

DATES: The Office of the Secretary must receive comments on the petition by August 8, 2011.

ADDRESSES: You may submit comments, identified by Docket No. CPSC-2011-0028, by any of the following methods:

Electronic Submissions

Submit electronic comments in the following way:

Federal eRulemaking Portal: http://www.regulations.gov. Follow the instructions for submitting comments.

To ensure timely processing of comments, the Commission is no longer accepting comments submitted by electronic mail (e-mail), except through http://www.regulations.gov.

Written Submissions

Submit written submissions in the following way:

Mail/Hand delivery/Courier (for paper, disk, or CD-ROM submissions), preferably in five copies, to: Office of the Secretary, U.S. Consumer Product Safety Commission, Room 820, 4330 East West Highway, Bethesda, MD 20814; telephone (301) 504-7923.

Instructions: All submissions received must include the agency name and petition number for this rulemaking. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov.

FOR FURTHER INFORMATION CONTACT: Rockelle Hammond, Office of the Secretary, U.S. Consumer Product Safety Commission, Room 820, 4330 East West Highway, Bethesda, MD 20814; telephone (301) 504-6833.

SUPPLEMENTARY INFORMATION: The Commission has received correspondence from Carol Pollack-Nelson, Ph.D. (“petitioner”), dated May 23, 2011, requesting that we initiate rulemaking to require safeguards for glass fronts of gas vented fireplaces. We are docketing this request as a petition under the Consumer Product Safety Act. 15 U.S.C. 2056 and 2058. Petitioner notes that the industry standard for gas vented fireplace heaters allows glass fronts to reach temperatures of 500 degrees Fahrenheit, and that these glass fronts are accessible to children. Petitioner claims that, according to the U.S. Consumer Product Safety Commission's National Electronic Injury Surveillance System database (NEISS), more than 2,000 children ages 0-5 years suffered burn injuries on gas fireplaces in the period between 1999 and March 2009. Petitioner believes the hazard posed by gas fireplaces is due to a combination of factors, “including the high surface temperature of the fireplace glass, the accessible location of the glass front, the attractiveness of fire to young children, and the lack of consumer awareness of the hazard.” Petitioner states that passive interventions, such as an “integral safety screen,” are needed to protect children. Petitioner asks the Commission to develop a mandatory standard for gas fireplaces that requires a protective barrier, guard or other device for any accessible surface that, if contacted, is hot enough to cause severe burns.

Subsequent to the receipt of this petition, the Commission received a submission from Mr. William S. Lerner, also requesting that the Commission initiate rulemaking regarding glass fronts of gas fireplaces. Mr. Lerner asks the Commission to require a “high temperature warning system,” which will “project a clear high temperature alert onto the glass front of the fireplace that will remain visible from the time the fireplace is lit until the glass is cool enough to touch safely.” We also seek comment on his proposal.

Interested parties may obtain a copy of the petition and subsequent submission by writing or calling the Office of the Secretary, U.S. Consumer Product Safety Commission, Room 820, 4330 East West Highway, Bethesda, MD 20814; telephone (301) 504-7923. Copies of these documents are also available for inspection from 8:30 a.m. to 5 p.m., Monday through Friday, in the Commission's Public Reading Room, Room 419, 4330 East West Highway, Bethesda, MD, or from the Commission's Web site at: http://www.cpsc.gov.

Todd A. Stevenson,
Secretary, U.S. Consumer Product Safety Commission.

[FR Doc. 2011-14020 Filed 6-7-11; 8:45 am]

BILLING CODE 6355-01-P